DEPARTMENT OF AGRICULTURE

Submission for OMB Review; Comment Request

December 14, 2020.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by January 19, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: School Food Purchase Study IV (SFPS-IV).

OMB Control Number: 0584-0471.

Summary of Collection: This study is the fourth in a series of studies designed to provide statistically valid national estimates of food acquisitions (both purchased foods and USDA Foods) made by school food authorities (SFAs) participating in the Federally supported National School Lunch Program (NSLP) and School Breakfast Program (SBP). In the decade following the release of the third School Food Purchase Study (SFPS III) report, the school nutrition environment has undergone considerable changes. Key among them are the provisions of the Healthy, Hunger-Free Kids Act of 2010 (Pub. L. 111-296) which required updated nutrition standards for the NSLP and SBP. These standards require meals to include greater quantities of fruits and vegetables, whole grains, and low-fat dairy and reduced sodium. These changes have affected the purchasing practices of SFAs in terms of the types, volume, and cost of foods. This study is restricted to public SFAs to allow for direct comparisons of the results (i.e., changes in the mix of acquired foods) to the prior study, SFPS III, which was conducted in SY 2009-2010. In addition, the study will describe food purchase practices of SFAs so that information associated with food purchasing efficiency can be provided to all SFAs.

Need and Use of the Information: SFPS-IV will provide updated national estimates of school food authority (SFA) food acquisitions (commercial purchases and USDA Foods) and a description and analysis of food purchase practices in SY 2021-2022. In addition, the study will assess changes in food acquisitions and purchase practices since SFPS-III, to provide important information about the impact of updated nutrition standards for meals and nonprogram (competitive) foods, and other changes made to the school meal programs following the Healthy, Hunger-Free Kids Act of 2010 (HHFKA). SFPS-IV will provide Federal, State, and local policymakers with current information about how Federally sponsored school meal programs are operating since the last study more than 10 years ago. Information about food buying efficiencies will be useful for SFAs as they strive to maximize available resources and improve food service operations. This study will include State Directors (Child Nutrition and State Distributing Agencies), SFA Directors, as well as food vendors and food service management companies (FSMCs).

Description of Respondents: State, Local, or Tribal Government and Business or Other-for-Profit.

Number of Respondents: 760.

Frequency of Responses: Reporting: On occasion.

Total Burden Hours: 4,942.

Ruth Brown,
Departmental Information Collection Clearance Officer.

[FR Doc. 2020-27779 Filed 12-16-20; 8:45 am]

BILLING CODE 3410-30-P